ENVIRONMENTAL PROTECTION AGENCY

[ER-FRL-6633-5]

Environmental Impact Statements; Notice of Availability

Responsible Agency: Office of Federal Activities, General Information (202) 564-7167 or http://www.epa.gov/compliance/nepa/.

Weekly receipt of Environmental Impact Statements

Filed September 16, 2002 through September 20, 2002

Pursuant to 40 CFR 1506.9.

EIS No. 020395, Draft EIS, NPS, MT, Glacier National Park—Going-to-Sun Road Rehabilitation Plan, To Protect and Preserve National Historic Landmark, Waterton-Glacier International Peace Park, The World First International Peace Park, A World Heritage Site, MT, Comment Period Ends: November 12, 2002, Contact: Mary Riddle (406) 888-7898.

EIS No. 020396, Draft EIS, NPS, AZ, UT, Glen Canyon National Area, Personal Watercraft Rule-Making, Implementation, Lake Powell, Coconino County, AZ and Garfield, Kane, San Juan and Wayne Counties, UT, Comment Period Ends: November 27, 2002, Contact: Kitty L. Roberts (928) 608-6272.

EIS No. 020397, Final EIS, FHW, FL, I-4 Corridor Improvements, Upgrading the Safety and Mobility of the existing I-4, from west of FL-528 (Bee Line Expressway) interchange in Orange County to east of FL-472 interchange in Volusia County, Funding, COE Section 10 and 404 Permits, NPDES Permit, Orange, Seminole, and Volusia Counties, FL, Wait Period Ends: October 28, 2002, Contact: Derek Fusco (850) 942-9650.

EIS No. 020398, Draft Supplement, FHW, UT, U.S. Highway 189, Utah Valley to Heber Valley, Widen and Realign 35km (22 miles) between the Junctions with Utah Route 52 and U.S. Highway 40, Provo Canyon, Utah and Wasatch County, UT, Comment Period Ends: November 12, 2002, Contact: William R. Gedris (801) 963-0182.

EIS No. 020399, Final EIS, COE, NJ, New Jersey Shore Protection Study, To Determine a Feasible Hurricane and Storm Damage Reduction Plan, between Manasquan Inlet to Barnegat Inlet, Boroughs of Point Pleasant Beach, Bay Head, Mantoloking Lavallette, Seaside Heights and Seaside Park, and Townships of Buck, Dover and Berkeley, NJ, Wait Period Ends: October 28, 2002, Contact: James Warren (202) 761-4526.

EIS No. 020400, Draft Supplement, AFS, ID, Salmon Wild and Scenic River Management Plan, To Implement Timeline Change From December 31, 2002 to December 31, 2005 and Provide Clarify Information on Economic Impacts to the Camps, Stub Creek, Arctic Creek, and Smith Gulch Creek, Salmon National Forest, Salmon County, ID, Comment Period Ends: November 12, 2002, Contact: Patricia Pearson (208) 756-5348.

EIS No. 020401, Final EIS, FRC, TN, NC, VA, Patriot Project, Construction and Operation of Mainline Expansion and Patriot Extension in order to Transport 510.000 dekatherms per day (dth/day) of Natural Gas, TN, VA and NC , Wait Period Ends: October 28, 2002, Contact: Magalie Roman Salas (202) 208-1371.

EIS No. 020402, Final EIS, NPS, TX, Fort Davis National Historic Site, General Management Plan, Implementation, Fort Davis, TX, Wait Period Ends: October 28, 2002, Contact: Jerry R. Yarbrough (915) 426-3224. This document is available on the Internet at: “http://planning.den.nps.gov/plans.cfm”.

EIS No. 020403, Final EIS, FHW, LA, Bayou Barataria Bridge/LA-302 Replacement, LA-45/Jean Lafitte Boulevard to LA-3257/Privateer Boulvard, Funding and U.S. Army COE Section 404 and U.S. Coast Guard Bridge Permits Issuance, Communities of Jean Lafitte and Barataria, Jefferson Parish, LA, Wait Period Ends: October 28, 2002, Contact: William C. Farr (225) 757-7615.

Amended Notices

EIS No. 020305, Draft EIS, FHW, CA, Riverside County Integrated Project, Winchester to Temecula Corridor a New Multi-Modal Transportation Facility, Route Location and Right-of-Way Preservation, County of Riverside, CA, Comment Period Ends: November 15, 2002, Contact: Mary Ann Rondinella (916) 498-5040. Revision of FR Notice Published on 7/19/2002: CEQ Wait Period Ending on 9/20/2002 has been Extended to 11/15/2002.

EIS No. 020306, Draft EIS, FHW, CA, Riverside County Integrated Project, Hemet to Corona/Lake Elsinore Corridor a New Multi-Modal Transportation Facility, Route Location and Right-of-Way Preservation, Riverside County, CA, Comment Period Ends: November 15, 2002, Contact: Mary Ann Rondinella (916) 498-5040. Revision of FR Notice Published on 7/19/2002: CEQ Comment Period Ending 9/20/2002 has been Extended to 11/15/2002.

Dated: September 24, 2002.
Joseph C. Montgomery,
Director, NEPA Compliance Division, Office of Federal Activities.

[FR Doc. 02-24655 Filed 9-26-02; 8:45 am]

BILLING CODE 6560-50-P